DEPARTMENT OF LABOR

Employment and Training Administration

[TA-W-81,071]

II-VI, Incorporated, Infrared Optics—Saxonburg Division, Saxonburg, Pennsylvania; Notice of Affirmative Determination Regarding Application for Reconsideration

By application dated February 21, 2012, a worker requested administrative reconsideration of the negative determination regarding workers' eligibility to apply for Trade Adjustment Assistance (TAA) applicable to workers and former workers of II-VI, Incorporated, Infrared Optics—Saxonburg Division, Saxonburg, Pennsylvania (subject firm). The determination was issued on February 8, 2012. The Department's Notice of determination was published in the Federal Register on February 14, 2012 (77 FR 8281). The workers were engaged in employment related to the production of infrared and CO2 laser optics, and related materials.

The initial investigation resulted in a negative determination based on the findings that the subject firm has not experienced a decline in the sales or production of infrared and CO2 laser optics, and related materials, from 2009 to 2010 or from January-October 2010 compared to the same period in 2011.

With respect to Section 222(a)(2)(B) of the Act, the investigation revealed that the workers' firm did not shift production of infrared and CO2 laser optics, and related materials (or like or directly competitive articles) to a foreign country, or acquire the production of such articles from a foreign country.

With respect to Section 222(b)(2) of the Act, the investigation revealed that the subject firm is a Supplier to a firm that employed a group of workers who received a certification of eligibility under Section 222(a) of the Act, 19 U.S.C. 2272(a); however, the component parts supplied did not account for at least 20 percent of the production or sales or contribute importantly to workers' separation or threat thereof.

With respect to Section 222(b)(2) of the Act, the investigation revealed that the subject firm does not act as a Downstream Producer to a firm that employed a group of workers who received a certification of eligibility under Section 222(a) of the Act, 19 U.S.C. 2272(a).

Finally, the group eligibility requirements under Section 222(e) of the Act have not been satisfied because the workers' firm has not been publicly identified by the International Trade Commission as a member of a domestic industry in an investigation resulting in an affirmative finding of serious injury, market disruption, or material injury, or threat thereof.

In the request for reconsideration, the petitioner supplied new information regarding a possible decline in sales during the relevant period under investigation.

The Department of Labor has carefully reviewed the request for reconsideration and the existing record, and has determined that the Department will conduct further investigation to determine if the workers meet the eligibility requirements to apply for TAA.

Conclusion

After careful review of the application, I conclude that the claim is of sufficient weight to justify reconsideration of the U.S. Department of Labor's prior decision. The application is, therefore, granted.

Signed at Washington, DC, this 27th day of March, 2012.
Del Min Amy Chen,
Certifying Officer, Office of Trade Adjustment Assistance.

[FR Doc. 2012-11054 Filed 5-7-12; 8:45 am]

BILLING CODE 4510-FN-P